NATIONAL AERONAUTICS AND SPACE ADMINISTRATION

[Notice 00-024]

NASA Advisory Council, Aero-Space Technology Advisory Committee, Aviation Safety Reporting System Subcommittee; Meeting

AGENCY: National Aeronautics and Space Administration.

ACTION: Notice of meeting.

SUMMARY: In accordance with the Federal Advisory Committee Act, Public Law 92-463, as amended, the National Aeronautics and Space Administration announces a NASA Advisory Council, Aero-Space Technology Advisory Committee, Aviation Safety Reporting System Subcommittee meeting.

DATES: Tuesday, March 28, 2000, 9:00 a.m. to 5:00 p.m. and Wednesday, March 29, 2000, 9:00 a.m. to 2:00 p.m.

ADDRESSES: Airline Pilots Association International, 535 Herndon Parkway, Conference Room 3, Herndon, VA 20170.

FOR FURTHER INFORMATION CONTACT: Ms. Linda Connell, National Aeronautics and Space Administration, Ames Research Center, Moffett Field, CA 94035, 650/969-8340.

SUPPLEMENTARY INFORMATION: The meeting will be open to the public up to the seating capacity of the room. Agenda topics for the meeting are as follows:

—Report on Aviation Safety Reporting System

—Report on Aviation Performance Measuring System Program

—Report on NASA Aviation Safety Program Elements Related to Aviation Safety Reporting System/Aircraft Performance Monitoring System

It is imperative that the meeting be held on these dates to accommodate the scheduling priorities of the key participants. Visitors will be requested to sign a visitors register.

Dated: March 1, 2000.
Matthew M. Crouch,
Advisory Committee Management Officer, National Aeronautics and Space Administration.

[FR Doc. 00-5350 Filed 3-3-00; 8:45 am]

BILLING CODE 7510-01-U